DEPARTMENT OF TRANSPORTATION

Federal Aviation Administration

Office of Commercial Space Transportation; Availability of Finding of No Significant Impact (FONSI) and Record of Decision (ROD) for Actions Related to Environmental Assessment for the Expansion of the Wallops Flight Facility Launch Range

AGENCY: Federal Aviation Administration (FAA), Department of Transportation.

ACTION: Notice.

SUMMARY: In accordance with the National Environmental Policy Act of 1969 (NEPA), 42 U.S.C. 4321-4347 (as amended), Council on Environmental Quality NEPA implementing regulations (40 Code of Federal Regulations (CFR) parts 1500 to 1508), and FAA Order 1050.1E, Change 1, the FAA is announcing the availability of a FONSI/ROD, based on the analysis and findings of the National Aeronautics and Space Administration's (NASA) August 2009 Environmental Assessment for the Expansion of the Wallops Flight Facility Launch Range (the EA). The FAA (Office of Commercial Space Transportation) participated as a cooperating agency with NASA in the preparation of the EA, which evaluates the potential environmental impacts of the proposed expansion of the Mid-Atlantic Regional Spaceport (MARS) at NASA's Goddard Space Flight Center Wallops Flight Facility (WFF). As the MARS expansion would require Federal actions (as defined in 40 CFR Section 1508.18) involving both NASA and the FAA, the EA was prepared to satisfy the NEPA obligations of both agencies. NASA, as the WFF property owner and lead agency, is responsible for ensuring overall compliance with applicable environmental statutes, including NEPA. The FAA served as a cooperating agency in the preparation of the EA because of its role in (1) licensing the Virginia Commercial Space Flight Authority (VCSFA) which operates MARS as a commercial launch site and (2) issuing licenses or permits to operate commercial launch and reentry vehicles at MARS. The FAA has formally adopted the EA and is using the FONSI/ROD to support the modification or renewal of VCSFA's Launch Site Operator License and issuance of licenses or experimental permits for commercial launch and reentry vehicles at MARS.

Under the Proposed Action in the EA, NASA and MARS facilities would be upgraded to support up to and including medium large class suborbital and orbital expendable launch vehicle (ELV) launch activities from WFF. NASA's Preferred Alternative includes site improvements required to support launch operations (such as facility construction and infrastructure improvements); testing, fueling, and processing operations; up to two static fire tests per year; launching up to six orbital-class vehicles per year from Pad 0-A; and the reentry of associated crew or cargo capsules. Implementation of NASA's Preferred Alternative would result in a maximum of 18 orbital-class vehicle launches from MARS Launch Complex 0 (twelve existing launches from Pad 0-B and six additional launches from Pad 0-A). As several different launch and reentry vehicles could launch from MARS Pad 0-A, the largest launch vehicle and payload (which could include a reentry vehicle), in terms of size, weight, and dimension, was chosen as the demonstration, or “envelope,” vehicle and payload to provide a benchmark for assessing impacts on resources at WFF and the surrounding environment. Orbital Sciences Corporation's Taurus II would be the largest ELV expected to be launched from MARS Pad 0-A under the Proposed Action. Therefore, the Taurus II was selected as the envelope launch vehicle for purposes of the EA. Orbital Sciences Corporation's Cygnus Capsule and Space Exploration Technologies Corporation's Dragon Capsule were evaluated as potential reentry vehicles. The EA addresses the potential environmental impacts of implementing the EA's Proposed Action and the No Action Alternative. Under the No Action Alternative, NASA and MARS would not proceed with expansion activities at Pad 0-A.

Based on its independent review and consideration, the FAA issued a FONSI/ROD concurring with the analysis of impacts and findings in the EA and formally adopting the EA to support the modification or renewal of VCSFA's Launch Site Operator License and issuance of launch and reentry licenses or experimental permits to operate commercial vehicles at MARS. After reviewing and analyzing available data and information on existing conditions, potential impacts, and measures to mitigate those impacts, the FAA has determined that neither modification or renewal of VCSFA's Launch Site Operator License nor issuance of launch and reentry licenses or experimental permits to operate commercial vehicles at MARS are Federal actions that would significantly affect the quality of the human environment within the meaning of NEPA. Therefore, the preparation of an EIS is not required, and the FAA has issued a FONSI/ROD. The FAA made this determination in accordance with all applicable environmental laws and FAA regulations.

NASA has posted the EA on the Internet at http://sites.wff.nasa.gov/code250/expansion_ea.html. The FAA has posted the FONSI/ROD on the Internet at http://www.faa.gov/about/office_org/headquarters_offices/ast/.

FOR FURTHER INFORMATION CONTACT: Mr. Daniel Czelusniak, Environmental Specialist, Office of Commercial Space Transportation, Federal Aviation Administration, 800 Independence Avenue, SW., Room 331, Washington, DC 20591, telephone (202) 267-5924; E-mail daniel.czelusniak@faa.gov.

Issued in Washington, DC, on August 4, 2010.
Michael McElligott,
Manager, Space Systems Development Division.

[FR Doc. 2010-19994 Filed 8-13-10; 8:45 am]

BILLING CODE 4910-13-P